DEPARTMENT OF THE INTERIOR

National Park Service

Going-to-the-Sun Road Advisory Committee

AGENCY: National Park Service, Interior.

ACTION: Notice of Meeting of Going-to-the-Sun Road Advisory Committee.

SUMMARY: This notice announces a scheduled meeting of the Going-to-the-Sun Road Advisory Committee. Notice of this meeting is required under the Federal Advisory Committee Act (Pub. L. 92-463).

MEETING DATE AND TIME: Tuesday, February 29, 2000 (8:00 a.m. to 12:00 noon and 1:00 p.m. to 5:00 p.m.); Wednesday, March 1, 2000 (8:00 a.m. to 12:00 noon and 1:00 p.m. to 5:00 p.m.); and Thursday, March 2, 2000 (8:00 a.m. to 12:00 noon and 1:00 p.m. to 5:00 p.m.)

MEETING LOCATION: Cavanaughs at Kalispell Center, 20 N. Main Street, Kalispell, Montana 59901, 406-752-6660.

AGENDA: On February 29 National Park Service Regional Director Karen Wade will address the Committee. The rest of the morning will focus on the Committee's purpose and related organizational and procedural matters and desired outcomes. The second two days will be devoted to the Going-to-the-Sun Road including the legislated engineering study and economic analysis based on the desired outcomes discussed the previous day. Project scope, schedule, and responsibilities will be part of these discussions.

The Committee may be addressed at various times by other officials of the National Park Service and the Department of the Interior; and other miscellaneous topics and reports may be covered. The order of the agenda may be changed, if necessary, to accommodate travel schedules or for other reasons.

The Committee meeting will be open to the public. Space and facilities to accommodate the public are limited and attendees will be accommodated on a first-come basis. Anyone may file with the Committee a written statement concerning matters to be discussed. The Committee may also permit attendees to address the Committee, but may restrict the length of the presentations, as necessary to allow the Committee to complete its agenda within the allotted time.

Anyone who wishes further information concerning the meeting, or who wishes to submit a written statement, may contact Dayna Hudson, Office of the Superintendent, Glacier National Park, P.O. Box 128, West Glacier, MT 59936 (telephone 406-888-7972).

Draft minutes of the meeting will be available for public information 30 days after the meeting in the Project Manager's Office, Park Headquarters, Glacier National Park, West Glacier, MT.

Dated: February 2, 2000.
Michael D. Snyder,
Acting, Director Intermountain Region.

[FR Doc. 00-2884 Filed 2-8-00; 8:45 am]

BILLING CODE 4310-70-P